DEPARTMENT OF THE INTERIOR

National Indian Gaming Commission

25 CFR Part 546

Class II Classification Standards

AGENCY: National Indian Gaming Commission (NIGC), Interior.

ACTION: Notice of Extension of Comment Period.

SUMMARY: This notice extends the period for comments on the burden, estimates or any other aspects of the information collection requirements for the proposed Class II game classification standards (72 FR 60483) published in the Federal Register on October 24, 2007.

DATES: The comment period for comments submitted to the Office of Management and Budget, Office of Information and Regulatory Affairs, or the NIGC on the burden, estimates or any other aspects of the information collection requirements for the proposed Class II game classification standards is extended from November 23, 2007, to January 24, 2008.

FOR FURTHER INFORMATION CONTACT: Penny Coleman at 202/632-7003; fax 202/632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. On October 24, 2007, the proposed Class II game classification standards (72 FR 60483) regulations were published in the Federal Register.

Dated: November 20, 2007.
Philip N. Hogen,
Chairman, National Indian Gaming Commission.
Cloyce V. Choney,
Vice Chairman, National Indian Gaming Commission.
Norman H. DesRosiers,
Commissioner, National Indian Gaming Commission.

[FR Doc. E7-23084 Filed 11-27-07; 8:45 am]

BILLING CODE 7565-01-P